DEPARTMENT OF COMMERCE

International Trade Administration

[C-570-085]

Certain Quartz Surface Products From the People's Republic of China: Rescission of Countervailing Duty Administrative Review; 2018-2019

AGENCY: Enforcement and Compliance, International Trade Administration, Department of Commerce.

SUMMARY: The Department of Commerce (Commerce) is rescinding the administrative review of the countervailing duty (CVD) order on certain quartz surface products (quartz surface products) from the People's Republic of China (China) for the period September 21, 2018, through December 31, 2019, based on the timely withdrawals of requests for review.

DATES: Applicable February 22, 2021.

FOR FURTHER INFORMATION CONTACT: Joshua Tucker or Peter Skarlatos, AD/CVD Operations, Office II, Enforcement and Compliance, International Trade Administration, U.S. Department of Commerce, 1401 Constitution Avenue NW, Washington, DC 20230; telephone: (202) 482-2044 and (202) 482-0324, respectively.

SUPPLEMENTARY INFORMATION:

Background

On July 1, 2020, Commerce published in the Federal Register a notice of opportunity to request an administrative review of the CVD order on quartz surface products from China for the period September 21, 2018 through December 31, 2019.¹ In July 2020, Commerce received timely-filed requests for an administrative review from Cosmos Granite (WEST) and Cosmos Granite (South East) (collectively, Cosmos); Foshan Adamant Science & Technology Co., Ltd. (Foshan Adamant); National Stoneworks, LLC (National Stoneworks); Quartz Master LLC (Quartz Master); and Unique Stone Concepts LLC (Unique), in accordance with section 751(a) of the Tariff Act of 1930, as amended (the Act), and 19 CFR 351.213(b).²

¹ See Antidumping or Countervailing Duty Order, Finding, or Suspended Investigation; Opportunity to Request Administrative Review, 85 FR 39531 (July 1, 2020).

² See Cosmos' Letter, “Quartz Surface Products from the PRC; C-570-085; Request for Administrative Review,” dated July 31, 2020; Foshan Adamant's Letter, “Request for Administrative Review of the Countervailing Duty Order on Quartz Surface Products from the People's Republic of China,” dated July 31, 2020; National Stoneworks' Letter, “Quartz Surface Products from the People's Republic of China; Request for Administrative Review,” dated July 31, 2020; Quartz Master's Letter, “Request for Administrative Review of the Countervailing Duty Order on Quartz Surface Products from the People's Republic of China,” dated July 31, 2020; and Unique's Letter, “Quartz Surface Products from the PRC; C-570-085; Request for Administrative Review,” dated July 31, 2020.

On September 3, 2020, based upon these requests and in accordance with section 19 CFR 351.221(c)(1)(i), Commerce published in the Federal Register a notice initiating an administrative review of the CVD order on quartz surface products from China.³ In September and December 2020, Cosmos, Foshan Adamant, National Stoneworks, Quartz Master, and Unique timely withdrew their requests for an administrative review of all companies for which they had requested a review.⁴

³ See Initiation of Antidumping and Countervailing Duty Administrative Reviews, 85 FR 54983 (September 3, 2020).

⁴ See Quartz Masters' Letter, “Partial Withdrawal of Request for Administrative Review of the Countervailing Duty Order on Certain Quartz Surface Products from the People's Republic of China,” dated September 18, 2020; Cosmos' Letter, “Quartz Surface Products from the PRC; C-570-085; Withdrawal Request for Administrative Review,” dated December 2, 2020; Foshan Adamant's Letter, “Foshan Adamant's Withdrawal of Request for Administrative Review of the Countervailing Duty Order on Quartz Surface Products from the People's Republic of China,” dated December 2, 2020; National Stoneworks' Letter, “Quartz Surface Products from the People's Republic of China; Withdrawal of Request for Administrative Review,” dated December 2, 2020; Quartz Master's Letter, “Quartz Surface Products from the People's Republic of China: Withdrawal of Request for Administrative Review,” dated December 2, 2020; and Unique's Letter, “Quartz Surface Products from the PRC; C-570-085; Withdraw Request for Administrative Review,” dated December 2, 2020.

Rescission of Review

Pursuant to 19 CFR 351.213(d)(1), Commerce will rescind an administrative review, in whole or in part, if the party who requested the review withdraws the request within 90 days of the date of publication of notice of initiation of the requested review. As noted above, all parties withdrew their requests for review within 90 days of the publication date of the notice of initiation, and no other parties requested an administrative review of the order. Therefore, in accordance with 19 CFR 351.213(d)(1), we are rescinding the administrative review of the CVD order on quartz surface products from China covering the period September 21, 2018 through December 31, 2019, in its entirety.

Assessment

Commerce intends to instruct U.S. Customs and Border Protection (CBP) to assess countervailing duties on all appropriate entries. Countervailing duties shall be assessed at rates equal to the cash deposit of estimated countervailing duties required at the time of entry, or withdrawal from warehouse, for consumption, in accordance with 19 CFR 351.212(c)(1)(i). Commerce intends to issue appropriate assessment instructions to CBP 35 days after publication of this notice in the Federal Register.

Administrative Protective Order

This notice serves as the only reminder to parties subject to administrative protective order (APO) of their responsibility concerning the disposition of proprietary information disclosed under APO in accordance with 19 CFR 351.305(a)(3), which continues to govern business proprietary information. Timely written notification of the return/destruction of APO materials or conversion to judicial protective order is hereby requested. Failure to comply with the regulations and terms of an APO is a sanctionable violation.

Notification to Interested Parties

This notice is issued and published in accordance with sections 751(a)(1) and 777(i)(1) of the Act.

Dated: February 12, 2021.
James Maeder,
Deputy Assistant Secretary for Antidumping and Countervailing Duty Operations.

[FR Doc. 2021-03491 Filed 2-19-21; 8:45 am]

BILLING CODE 3510-DS-P